DEPARTMENT OF COMMERCE

National Oceanic and Atmospheric Administration

50 CFR Parts 253 and 600

[Docket No. 080228332-81199-01]

RIN 0648-AW38

Magnuson-Stevens Act Provisions; Interjurisdictional Fisheries Act; Disaster Assistance Programs; Fisheries Assistance Programs

AGENCY: National Marine Fisheries Service (NMFS), National Oceanic and Atmospheric Administration (NOAA), Commerce

ACTION: Proposed rule; extension of comment period.

SUMMARY: NMFS extends the public comment period on the proposed rule to govern the requests for determinations of fishery resource disasters as a basis for acquiring potential disaster assistance. NMFS has received requests to extend the comment period for the proposed rule beyond its current 30-day comment period. The extension of the comment period for another 2 months is intended to ensure that NMFS provides adequate time for various stakeholders and other members of the public to comment on the proposed regulations to govern initiating and responding to requests for fisheries disaster assistance. The comment period of the January 15, 2009 (74 FR 2467) rule is extended from February 17, 2009, to April 20, 2009.

DATES: Comments must be submitted in writing on or before April 20, 2009.

ADDRESSES: You may submit comments, identified by 0648-AW38, by any one of the following methods:

• Electronic Submissions: Submit all electronic public comments via the Federal eRulemaking Portal: http://www.regulations.gov;

• Fax: 301-713-1193, Attn: Robert Gorrell;

• Mail: Alan Risenhoover, Director, NMFS Office of Sustainable Fisheries, Attn: Disaster Assistance Program Guidance and Procedures, 1315 East-West Highway, SSMC3, Silver Spring, MD 20910.

Written comments regarding the burden-hour estimates or other aspects of the collection-of-information requirements contained in this proposed rule may be submitted to Alan Risenhoover at the above address and by email to David_Rostker@omb.eop.gov, or by fax to (202) 395-7285.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter “N/A” in the required fields, if you wish to remain anonymous). Attachments to electronic comments will be accepted in Microsoft Word, Excel, WordPerfect, or Adobe PDF file formats only.

FOR FURTHER INFORMATION CONTACT: Robert Gorrell, at 301-713-2341 or via e-mail at robert.gorrell@noaa.gov.

SUPPLEMENTARY INFORMATION: A proposed rule that sets forth NMFS' proposed regulations to govern requests for determinations of fishery resource disaster assistance was published in the Federal Register on January 15, 2009 (74 FR 2467), with a comment period ending date of February 17, 2009. The regulations would establish definitions, and characteristics of commercial fishery failures, fishery resource disasters, serious disruptions affecting future production, and harm incurred by fishermen, as well as requirements for initiating a review by NMFS, and the administrative process it will follow in processing such applications. The intended result of these procedures and requirements is to clarify and interpret the fishery disaster assistance provisions of the Magnuson-Stevens Fishery Conservation and Management Act and the Interjurisdictional Fisheries Act through rulemaking and thereby ensure consistency and facilitate the processing of requests.

After receiving requests to extend the comment period, NMFS has decided to extend it for another 62 days through April 20, 2009. This action extends the comment period for a proposed rule that the Office of Management and Budget determined to be significant under Executive Order 12866.

Authority: 46 U.S.C. 1271-1279 and 16 U.S.C. 4101 et seq.

Dated: February 3, 2009.
James W. Balsiger
Acting Assistant Administrator for Fisheries, National Marine Fisheries Service.

[FR Doc. E9-2587 Filed 2-5-09; 8:45 am]

BILLING CODE 3510-22-S